DEPARTMENT OF AGRICULTURE

Forest Service

Sierra National Forest, Bass Lake Ranger District, California, Whisky Ecosystem Restoration Project

AGENCY: Forest Service, USDA.

ACTION: Notice of intent to prepare an environmental impact statement.

SUMMARY: The Bass Lake Ranger District is proposing a series of ecological restoration treatments, east of the community of North Fork, California. This would be north of Cascadel Point, south of Shuteye Peak, and west of Whisky Ridge. Treatment areas have been initially identified to restore forest conditions to more closely resemble pre-1900s stand structures which would result in forests that are more resilient and resistant to expected changes in climate and disturbance regimes. Treatments are needed to maintain or improve growth and vigor of conifer stands, reduce the spread and intensity of wildfires within and outside of the Wildland Urban Interface (WUI) and restore other ecological processes.

DATES: Comments concerning the scope of this analysis should be received no later than 30 days after the publication of this notice in the Federal Register. The draft environmental impact statement (DEIS) is expected in December 2012 and the final environmental impact statement (FEIS) is expected in March 2013.

ADDRESSES: Send written comments to the U.S. Forest Service, Sierra National Forest, Bass Lake Ranger District, 57003 Road 225, North Fork, CA 93643, ATTN: David Martin. Comments may also be sent via email to comments-pacificsouthwest-sierra@fs.fed.us (use Rich Text format (.rtf) or Word format (.doc)) or via facsimile to (559) 877-3108.

It is important that reviewers provide their comments at such times and in such a way that they are useful to the Agency's preparation of the EIS. Therefore, comments should be provided prior to the close of the comment period and should clearly articulate the reviewer's concerns and contentions. Comments received in response to this solicitation, including names and addresses of those who comment, will be part of the public record for the proposed action. However comments submitted anonymously will be accepted and considered.

FOR FURTHER INFORMATION CONTACT: Aimee Smith, Interdisciplinary Team Leader, at Sierra National Forest, Bass Lake Ranger District, 57003 Road 225, North Fork, CA 93643. Individuals who use telecommunication devices for the deaf (TDD) may call the Federal Information Relay Services (FIRS) at 1-800-877-8339 between 8 a.m. and 8 p.m., Eastern Time, Monday through Friday.

SUPPLEMENTARY INFORMATION: Background Information: The Whisky Ecosystem Restoration Project (Madera County, California) lies within the Willow Creek watershed, where impacts of early 1900's railroad logging and subsequent harvest activities on these federal and formerly private lands, combined with the exclusion of fire, have altered forest conditions within the Project area. Stand species composition has shifted from more fire resistant, shade intolerant pines to less fire resistant, shade tolerant fir and incense cedar. Prior to these activities, these forests were comprised of larger diameter pine dominated stands that were less susceptible to drought and fire. Frequent low to moderate intensity fires limited understory vegetation resulting in more open stand conditions. Currently, stands are more even aged, dense, and multilayered, dominated by second-growth (approximately 85 to 110 year-old) less fire resistant, shade tolerant white fir and incense cedar. Decades of fire exclusion has resulted in excessive accumulations of down woody material.

The Whisky Ridge Ecological Restoration Project lies within the elevation range for the Southern Sierra Fisher Conservation Area. Public concern and management review surrounding the significance of potential impacts to the Pacific fisher and the California spotted owl during past projects has led to the decision to document the environmental analysis with an environmental impact statement (EIS) for this project. The US Fish and Wildlife Service currently list pacific fishers as a Candidate species for listing under the Endangered Species Act; while California spotted owls are a Forest Service Sensitive Species for Region 5.

Purpose and Need for Action

The purpose of this Project is to promote ecosystem resilience, sustainability, and health under current and future conditions through the restoration of key ecological processes, biodiversity, wildlife habitat, and structural heterogeneity.

The impacts of past railroad logging and subsequent harvest activities on these federal and formerly private lands, combined with the exclusion of fire, have altered forest conditions within the Project area. Stand species composition has shifted from more fire resistant, shade intolerant pines to less fire resistant, shade tolerant fir and incense cedar. There is a need to restore forest conditions within proposed treatment areas to more closely resemble pre-1900s stand structures which would result in forests that are more resilient and resistant to expected changes in climate and disturbance regimes. Proposed treatments are needed to maintain or improve growth and vigor of conifer stands, reduce the spread and intensity of wildfires and restore other ecological processes.

There is a need to treat conifer stands to improve their resiliency to insect attack, diseases, wildfire, drought conditions, and increased stress on vegetation due to predicted warmer temperatures and longer periods of depleted soil moisture.

Stocking levels (stand densities) have reached or are reaching density levels where declining growth and vigor is occurring from inter-tree competition thus increasing potential rates of tree mortality. Proposed thinning treatments would reduce the uncharacteristically high percentage of incense cedar and fir within stands. Thinning treatments would reduce inter-tree competition resulting in improved individual tree growth and vigor leading to accelerated development of larger diameter more resilient trees.

Proposed treatments would provide a buffer between developed areas and wildland to protect communities from moderate/high intensity wildfires, as well as minimizing the spread of wildfire originating from developed areas onto forested lands. There is a need to treat the surface (dead and down fuels) and ladder fuels to reduce the risk of spread and intensity of wildfire.

Proposed Action

The Whisky Ridge Ecological Restoration Project proposes to;

• Restore key wildlife structures and improve wildlife habitat by maintaining and restoring key components that are utilized for shelter, reproduction sites, resting or food sources;

• Increase resiliency of mixed conifer, pine and fir stands through density management by beginning the process of returning treatment areas to conditions more closely resembling those present prior to the early 1900s;

• Maintain or improve growth and vigor of pine, mixed conifer, and fir stands, as well as conifer plantations through density management;

• Minimize the effects of wildland fire in the high risk (probability of ignition occurring), high hazard (availability of fuels to sustain a fire) wildland urban intermix area, and surrounding forest by reducing the potential for uncharacteristically large and severe wildfire and facilitate conditions that result in low-to-moderate severity wildland fire;

• Treat surface and ladder fuels to reduce the potential for a surface fire to transition into a sustained crown fire;

• Allow for the reintroduction of fire as a process restoration tool;

• Recover failed conifer plantations and openings by planting conifers within specific sites;

• Use integrated weed management to prevent and control infestations of noxious weeds;

• Restore production and enhance vitality of culturally gathered plant material;

• Protect the historic values and characteristics of archaeological and historical cultural resources and improve their integrity by reducing fuels within cultural resource sites;

• Restore and stabilize degraded watershed features such as meadows, streams, and riparian features by improving channel stability;

• Decommission unapproved trails that are contributing to resource degradation;

• Review the Sierra National Forest Motorized Travel Management plan and determine if any roads within the Project area recommended for potential decommissioning should be addressed under this proposal;

• Minimize livestock impacts to riparian features by developing range improvements (e.g. off-site water developments).

The Whisky Ridge Ecological Restoration Project encompasses 18,285 acres. Approximately 7,500 acres would be analyzed for treatments.

Possible Alternatives

To comply with NEPA, the Forest Service will evaluate additional alternatives to the proposed action developed based on public comments. A no action alternative to provide a baseline for comparison to the action alternatives will be included within the EIS. Each alternative will be explored and evaluated, or rationale will be given for eliminating an alternative from detailed study.

Responsible Official

The Responsible Deciding Official is Scott G. Armentrout, Forest Supervisor, Sierra National Forest, 1600 Tollhouse Road, Clovis, CA 93612.

Nature of Decision To Be Made

The Forest Supervisor will decide whether to implement the proposed action, take an alternative action that meets the purpose and need or take no action.

Scoping Process

The notice of intent initiates the scoping process, which guides the development of the environmental impact statement. The project is included in the Sierra National Forest's quarterly scheduled of proposed actions (SOPA). Information on the proposed action will also be posted on the Sierra National Forests Web site, http://www.fs.fed.us/nepa/fs-usda-pop.php/?project=37829, and will also be advertised in both the Fresno Bee and the Oakhurst Sierra Star. This notice of intent initiates the scoping process, which guides the development of the environmental impact statement.

Comments submited during this scoping period should be in writing and should be specific to the proposed action. The comments should describe as clearly and completely as possible any issues the comnenter has with the proposal. It is important reviewers provide their comments at such times in such a manner that they are useful to the agency's preparation on the environmental impact statement.

Dated: April 4, 2012.
Scott G. Armentrout,
Forest Supervisor.

[FR Doc. 2012-8661 Filed 4-10-12; 8:45 am]

BILLING CODE 3410-11-P